DEPARTMENT OF JUSTICE

Notice of Lodging of Proposed Consent Decree Under the Clean Air Act

On January 22, 2020, the Department of Justice lodged a proposed Consent Decree with the United States District Court for the Southern District of Ohio in the lawsuit entitled United States v. Gulfport Energy Corporation, Case No. 2:20-cv-00340-ALM-CMV.

The United States filed a Complaint in this lawsuit seeking civil penalties and injunctive relief from Defendant Gulfport Energy Corporation (“Gulfport”) for alleged violations of the Clean Air Act, 42 U.S.C. 7401-7671q, at multiple oil and gas production well pads that Gulfport owns and operates in eastern Ohio (the “Facilities”). The United States' Complaint alleges that Gulfport has violated statutory and regulatory requirements applicable to storage tanks at the Facilities arising under the Clean Air Act and regulations promulgated by the U.S. Environmental Protection Agency establishing standards of performance for crude oil and natural gas production, transmission, and distribution facilities (codified at 40 CFR part 60, subpart OOOO), as well as corresponding requirements in Gulfport's Clean Air Act operating permits for the Facilities.

When the Complaint was filed, the United States also lodged a proposed Consent Decree that would settle the claims asserted in the Complaint. Among other things, the proposed Consent Decree would require Gulfport to implement appropriate injunctive relief to control air pollutant emissions from storage tanks at the Facilities, undertake additional mitigation measures to help offset unauthorized past air pollutant emissions, and pay a total of $1,700,000 in civil penalties (plus interest) to the United States.

The publication of this notice opens a period for public comment on the proposed Consent Decree. Comments should be addressed to the Assistant Attorney General, Environment and Natural Resources Division, and should refer to United States v. Gulfport Energy Corporation, D.J. Ref. No. 90-5-2-1-12026. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees.

We will provide a paper copy of the proposed Consent Decree upon written request and payment of reproduction costs. Please mail your request and payment to: Consent Decree Library, U.S. DOJ—ENRD, P.O. Box 7611, Washington, DC 20044-7611.

Please enclose a check or money order for $25.75 (25 cents per page reproduction cost) payable to the United States Treasury.

Randall M. Stone,
Acting Assistant Section Chief, Environmental Enforcement Section, Environment and Natural Resources Division.

[FR Doc. 2020-01358 Filed 1-27-20; 8:45 am]

BILLING CODE 4410-15-P